DEPARTMENT OF HOMELAND SECURITY

Ideation Prize Competition

AGENCY: Science and Technology Directorate, Department of Homeland Security.

ACTION: Notice.

SUMMARY: The Department of Homeland Security (DHS) gives notice of the availability of the “National Bio and Agro-Defense Facility Think and Do Challenge” ideation prize competition and rules. The DHS Science and Technology Directorate (DHS S&T) Research and Development Partnerships (RDP) Group Office of National Labs (ONL) is seeking individuals and entities with unique ideas and concepts to jump start the development of an innovation ecosystem focused on Bio/Agro Security. Innovation ecosystems typically consist of the people, institutions, policies and resources that promote the translation of new ideas into products, processes and services. This innovation ecosystem will support one of DHS's major infrastructure investments: The National Bio and Agro-Defense Facility (NBAF). This prize competition seeks novel approaches to build one or more pieces of the innovation ecosystem. The novel approach will result in enhancement to innovation, collaboration, training, and talent, therefore enhancing the NBAF mission. Cash prize(s) awarded from this competition are intended to fund a portion of the operating budget for the idea(s) and associated business plan(s) that provides the best solution to build one or more pieces of an innovation ecosystem that aligns to the needs of the NBAF mission. The total cash prize payout for this competition is up to $100,000 (USD) with at least one cash prize of $15,000 (USD) and no award will be less than $15,000 (USD). The awards and amounts will be paid to the best submission(s) as solely determined by the Seeker.

This prize competition consists of the following unique features:

• Terminology

○ Seeker: DHS S&T Office of National Labs

○ Solvers: Ideation Prize competition submitters

• The Solvers are not required to transfer exclusive intellectual property rights to the Seeker. (See Additional Information-Intellectual Property below)

DATES: Submission Period Beginning Date: September 30, 2015.

Submission Period Ending Date: All submissions must be received electronically as indicated in this announcement by 11:59 p.m. Eastern Standard Time on Monday, November 30, 2015. Late submissions will not be considered. All dates are subject to change. For more details please visit the http://www.challenge.gov Web site.

ADDRESSES: Questions about this prize competition may be emailed to innohelp@innocentive.com.

FOR FURTHER INFORMATION CONTACT: Prize Competition Manager: Ms. Julie Brewer; Phone: 202-254-6454; Email: julie.brewer@hq.dhs.gov.

SUPPLEMENTARY INFORMATION: The America Creating Opportunities to Meaningfully Promote Excellence in Technology, Education, and Science Reauthorization Act of 2010 (The America COMPETES Act), Public Law 111-358, enacted January 4, 2011, authorizes Federal agencies to issue competitions to stimulate innovations that could advance their missions. Interested persons can find full details about the competition rules and register to participate online at http://www.challenge.gov. Contest rules are subject to change.

Subject of the Prize Competition: Ideas and concepts to jump start the development of an innovation ecosystem focused on Bio/Agro Security and the National Bio and Agro-Defense Facility (NBAF).

Eligibility Rules: To be eligible to win a prize under this competition, an individual or entity—

(1) Shall have registered to participate in the competition under the rules promulgated by the Department of Homeland Security, Science and Technology Directorate and in accordance with the description provided, below, under “Registration Information;”

(2) Shall have complied with all of the requirements under this section;

(3) Pursuant to the America COMPETES Act of 2010, awards for this Prize competition may only be given to an individual that is a citizen or legal permanent resident of the United States, or an entity that is incorporated in and whose primary place of business is in the United States, subject to verification by the Seeker before Prizes are awarded. An individual or private entity must be the registered entrant to be eligible to win a prize. Further restrictions apply—see the Ideation Challenge-Specific Agreement found at the competition registration Web site and this Federal Register Notice for full details.

(4) Contestants to this prize competition must: agree to be bound by the rules of the prize competition; agree that the decision of the judges for this prize competition are final and binding; and acknowledge that their submission may be the subject of a Freedom of Information Act (FOIA) request and that they are responsible for identifying and marking all business confidential and proprietary information in their submission.

(5) Entities selected as a prize competition winner must register or be previously registered in the System for Awards Management (http://www.sam.gov) in order to receive a cash prize. Registration in the System for Awards Management is not a prerequisite for submitting an entry to this prize competition.

(6) Winner(s) to this prize competition agree and consent to the Department of Homeland Security, Science and Technology Directorate providing a copy of the winning proposed solution(s), after the final award winner(s) is announced, unless expressly stated otherwise in writing, to be considered for grants from the State of Kansas, administered by Kansas State University. DISCLAIMER: The Department of Homeland Security's only role is to refer prize competition submissions to the Kansas State University for their sole consideration of a potential grant. The Department of Homeland Security is not responsible or liable for any decision made by the Kansas State University or the State of Kansas to award or not award a grant per this prize competition. The Department of Homeland Security is only responsible for judging submissions as contained in the evaluation criteria, selecting award winner(s), and making cash award payments up to $100,000 as contained in this notice. Neither the Kansas State University nor the State of Kansas is obligated to provide any award or funding at any time.

(7) Contestants to this prize competition agree, as a condition for receiving a cash prize, to complete a Memorandum of Understanding with the Department of Homeland Security, Science and Technology Directorate to take every reasonable effort to implement their Proposed Solution's business plan and provide periodic progress reports.

(8) Contestants to this prize competition must agree and consent, as a condition for receiving a cash prize, to the use of their name, entity, city and state, likeness or image, comments, and a short synopsis of their winning solution as a part of the Department of Homeland Security's promotion of this prize competition.

(9) Contestants must own or have access at their own expense to a computer, an Internet connection, and any other electronic devices, documentation, software, or other items that Contestants may deem necessary to create and enter a Submission;

(10) The following individuals (including any individuals participating as part of an entity) are not eligible regardless of whether they meet the criteria set forth above:

(i) any individual under the age of 18;

(ii) any individual who employs an evaluator on the Judging Panel (hereafter, referenced simply as a “Judge”) or otherwise has a material business relationship or affiliation with any Judge;

(iii) any individual who is a member of any Judge's immediate family or household;

(iv) any individual who has been convicted of a felony;

(v) the Seeker, Participating Organizations, and any advertising agency, contractor or other individual or organization involved with the design, production, promotion, execution, or distribution of the Contest; all employees, representatives and agents thereof; and all members of the immediate family or household of any such individual, employee, representative, or agent;

(vi) any Federal entity or Federal employee acting within the scope of his or her employment, or as may otherwise be prohibited by Federal law (employees should consult their agency ethics officials);

(vii) any individual or entity that used Federal facilities or relied upon significant consultation with Federal employees to develop a Submission, unless the facilities and employees were made available to all Contestants participating in the Contest on an equal basis; and

(viii) any individual or entity that used Federal funds to develop a Submission, unless such use is consistent with the grant award, or other applicable Federal funds awarding document. If a grantee using Federal funds enters and wins this Contest, the prize monies will need to be treated as program income for purposes of the original grant in accordance with applicable Office of Management and Budget Circulars. Federal contractors may not use Federal funds from a contract to develop a Submission for this competition.

(ix) Employees and contractors of the Department of Homeland Security, Science and Technology Directorate and the U.S. Department of Agriculture, Foreign Animal Diagnostic Laboratory located at Plum Island, NY are ineligible to compete in this competition. Likewise, members of their immediate family (spouses, children, siblings, parents), and persons living in the same household as such persons, whether or not related, are not eligible to participate in any portion of this competition, shall not work on their submission during assigned duty hours. Note: Federal ethical conduct rules may restrict or prohibit federal employees from engaging in certain outside activities, so any federal employee not excluded under the prior paragraph seeking to participate in this competition outside the scope of employment should consult his/her agency's ethics official prior to developing a submission; and

(11) For purposes hereof:

(i) the members of an individual's immediate family include such individual's spouse, children and step-children, parents and step-parents, and siblings and step-siblings; and

(ii) the members of an individual's household include any other person who shares the same residence as such individual for at least three (3) months out of the year.

(12) Per 15 U.S.C. 3719(h), an individual or entity shall not be deemed ineligible under these eligibility rules because the individual or entity used Federal facilities or consulted with Federal employees during a competition if the facilities and employees are made available to all individuals and entities participating in the competition on an equitable basis; and

(13) Use of Marks: Except as expressly set forth in the Participant Agreement or the contest rules, participants shall not use the names, trademarks, service marks, logos, insignias, trade dress, or any other designation of source or origin subject to legal protection, copyrighted material or similar intellectual property (“Marks”) of the organizers or other prize competition partners, sponsors, or collaborators in any way without such party's prior written permission in each instance, which such party may grant or withhold in its sole and absolute discretion.

(14) An individual or entity that is currently on the Excluded Parties List will not be selected as a prize winner.

Registration Information: To be eligible to win a prize under this competition, the Solver shall have registered to participate in the contest under the process identified on the central Federal Web site where government competitions are advertised (Challenge.gov). Access the http://www.challenge.gov Web site and sort by: Department of Homeland Security and then select the “National Bio and Agro-Defense Facility Think and Do Challenge” contest. Solvers will be directed to an external Web site created specifically for the competition to obtain contest information, register for the contest including signing the Ideation Challenge-Specific Agreement and submit their entry. After the competition deadline, the Seeker will complete the review process and make a decision with regards to the Winning Solution(s). All Solvers that submitted a proposal will be notified on the status of their submissions; however, no evaluation of individual submissions will be provided.

Submission Requirements: This competition requires a proposed solution with a written business plan that describes a novel approach to build one or more pieces of the bio-agro security innovation ecosystem. The novel approach will result in enhancement to innovation, collaboration, training, and talent, therefore enhancing the NBAF mission.

Background information to assist in the completion of submission: In 2022, the Department of Homeland Security, Science and Technology Directorate will open the National Bio and Agro-Defense Facility (NBAF) in Manhattan, Kansas. This state-of-the-art maximum biocontainment facility will offer leading-edge capabilities to help protect our food supply and the nation's public health.

Without a smart strategy, a new laboratory may struggle to capitalize on the benefits of collaboration, innovation, talent and training that are necessary to support the mission over time. The NBAF “Think and Do Challenge” is an opportunity for thinkers, doers, and entrepreneurs to offer fresh approaches, unique ideas or proven methods to jumpstart development of an instrument that enhances the NBAF's role in shaping bio/agro security for the 21st Century.

According to the World Health Organization, approximately 75 percent of new and emerging infectious diseases are zoonotic diseases which may be transmitted from animals to humans. The United States currently does not have a laboratory facility with maximum biocontainment (BSL-4) space to study high-consequence zoonotic diseases affecting large livestock. NBAF will be the first laboratory facility in the United States to provide BSL-4 laboratories capable of housing cattle and other large livestock. NBAF will also feature a vaccine development module to augment its laboratory research and accelerate the transfer of new science and technology into the marketplace. See http://www.dhs.gov/science-and-technology/national-bio-and-agro-defense-facility

NBAF's location in Manhattan, Kansas, places it within the Kansas City Animal Health Corridor, the largest concentration of animal health companies in the world. NBAF will be constructed and operated on a secure federally owned site on the northwest corner of the Kansas State University (KSU), adjacent to KSU's Biosecurity Research Institute in Pat Roberts Hall. NBAF will play a leading role in protecting the nation's health and food supply as part of an integrated, advanced bio/agro security innovation system (BASIS). This system is designed to materially enhance public/private sector cooperation and collaboration, leverage stakeholder knowledge and capabilities, accelerate the transition of technologies and products into the marketplace, and enable skilled training, talent development, and regional economic growth. BASIS is strengthened by NBAF's proximity to a network of organizations with veterinary, agricultural, and animal pharmaceutical expertise.

A video presentation that outlines the strategic vision of the innovation ecosystem can be found at http://www.dhs.gov/nbafchallenge. The National Science Foundation has identified a number of the features of an innovation ecosystem. For more information see: http://www.nsf.gov/news/special_reports/i-corps/ecosystem.jsp

While a number of the features are in place to establish an innovation ecosystem focused on Bio/Agro Security surrounding the NBAF, DHS S&T would like to maximize the potential for the NBAF to serve as a focal point for the ecosystem's components. Notional pieces of an innovation ecosystem include the following examples: Training Component: The prize competition winner would receive a cash prize to develop a certificate program for the training of animal care handlers in a biocontainment environment; Talent Component: The prize competition winner would receive a cash prize to develop a large animal veterinary student exchange program for exposure to the research in a biocontainment environment; Innovation Component: The prize competition winner would receive a cash prize to jump-start a business plan that would accelerate agricultural technologies to market; Collaboration Component: The prize competition winner would receive a cash prize to accelerate novel tools to facilitate virtual research collaboration across long distances or other barriers (i.e. from within biocontainment).

The concepts above are provided as illustrations. Solvers are encouraged to develop their own concepts or to build upon the ideas above. Proposed Solutions should pursue economic, scientific, educational and technical opportunities that will advance the development of a vital innovation ecosystem around NBAF, comprising elements of innovation, collaboration, talent, and training.

Submissions to this prize competition shall include a written business plan consisting of five sections that address each topic below as applicable. Business plans must clearly articulate an understanding of the solution and its impact in providing high-value, creative and specialized talent, training, innovation or collaboration to the innovation ecosystem. Competitive submissions are expected to be in the range of 10-20 pages consisting of:

(1) Cover Page (Format may be found on the competition Web site).

(2) Executive Summary.

(3) Problem and Solution (Also sometimes called an Issue Analysis) (Impact Criterion).

(i) Description of a current or future challenge or gap in training, talent, collaboration or innovation that should be considered by DHS as it moves towards the opening of the NBAF in 2022.

(ii) Gap to be filled; its importance; and to whom.

(iii) Importance of this identified current or future gap to the bio/agro defense community and the NBAF.

(iv) Description of the solution that will solve the problems/obstacles described above if awarded the prize.

(v) Demonstrated understanding of the selected issue and target market.

(4) Implementation Plan (Method and Feasibility Criterion).

(i) Demonstrated understanding of the selected issue and target market.

(ii) Feasibility assessment and a statement describing Solver's ability to execute the proposed solution, including the estimated timeframe, supporting precedents and any special resource existing or needed.

(iii) Plan for use of the prize money if won.

(iv) Ability of the Solver to execute the proposed plan, including mapping the submission to the 5 step success criteria contained in the judging rules section of this notice.

(v) Milestones for the next 6-12 months.

(vi) Identify the largest risk factors in implementing the solution.

(vii) Identify additional resources that will need to be leveraged, including partnerships, to fully implement the proposed solution.

(viii) Identify current stakeholders in support as well as those who are targeted for future collaboration and involvement.

(ix) Describe entities and individuals involved in the proposed solution.

(5) Cost Analysis (Cost Realism Criterion).

(i) Business plan funding requirements and use of prize competition cash prize if won.

(ii) Adequate or identified financial resources to ensure robust institutional capacity.

(iii) Potential for becoming self-sustaining.

(iv) Implementation/Commercialization commitment with stakeholder buy-in.

Liability and Indemnification Information: By participating in this competition, each Solver agrees to assume any and all risks and waive claims against the Federal Government and its related entities, except in the case of willful misconduct, for any injury, death, damage, or loss of property, revenue, or profits, whether direct, indirect, or consequential, arising from participation in this competition, whether the injury, death, damage, or loss arises through negligence or otherwise. Likewise, each Solver agrees to indemnify the Federal Government against third party claims for damages arising from or related to competition activities. In order to receive a Prize, a Solver will be required to complete, sign and return to the Seeker affidavit(s) of eligibility and liability release, or a similar verification document.

Payment of the Prize: Prizes awarded under this competition will be paid by the Seeker and must be received by the Solver(s) via electronic funds transfer. All Federal, state and local taxes are the sole responsibility of the winner(s). DHS will comply with the Internal Review Service withholding and reporting requirements, where applicable.

Judging Criteria: Solutions for this competition will be evaluated by a judging panel using the criteria and rating scales described below. A total of 100 points is possible for each Proposed Solution. Judges will individually score accepted Proposed Solutions that meet the eligibility and submission criteria announced in this notice. The top 15 Proposed Solutions will advance to consensus judging for a final score and a decision on award amount, if any.

Proposed Solution Rating System (1-10 points for each criterion).

(1) Excellent: Fully addressed all elements of this criterion. (10 points)

(2) Very Good: High quality, addressed most significant elements of this criterion. (8-9 points)

(3) Good: Quality, adequately addressed some important elements of this criterion. (6-7 points)

(4) Fair: Solver failed to address one or more critical aspects of this criterion. (4-5 Points)

(5) Poor: This criterion has serious deficiencies. (1-3 points)

Scoring: Criterion Score X Weighted Importance = Total

Judging Criteria:

(1) Impact (Weighted Importance: 5) (50 possible points) Proposed Solutions will be evaluated on their plan to effectively develop and implement/commercialize solutions that enhance innovation, education, training, and the improvement of skills within the (NBAF) ecosystem.

(i) A clear understanding of a real or persistent problem or an unaddressed opportunity, its urgency, and the ability of the Proposed Solution to solve the problem or capitalize on the opportunity;

(ii) Creative or even potentially transformative solutions based on an understanding of their role, benefit, and best practices within the innovation ecosystem;

(iii) A clear understanding of the current and future challenges facing the nation's agricultural system;

(iv) Alignment with current and future needs for the success of the NBAF;

(v) Quantifiable benefits that go beyond the Solver and benefit the innovation ecosystem and the NBAF;

(vi) The extent to which innovation, collaboration, training or talent aligned to the NBAF visions will be enhanced; and

(2) Method/Feasibility (Weighted Importance: 3) (30 possible points) The extent to which the Proposed Solution demonstrates:

(i) An understanding, use and incorporation of the 5 step success criteria in developing and implementing the solution: (Step 1) Engage: Reach out to stakeholders throughout private industry, livestock producers, animal health companies, research universities, local/state/federal government; (Step 2) Align: Pinpoint nature alignments that exist within the stakeholder network and determine which alignments may provide a foundation for more significant and committed partnerships; (Step 3) Connect needs with system capabilities offered by others within the network to begin creating a symbiotic framework for protection of animal health, public health, and the food supply, while also promoting economic growth; (Step 4) Advance: Secure key partnerships by identifying specific shared goals within each aligned relationship, ascertaining progressive benchmarks for success and operationalizing each partnership; and (Step 5) Enrich: Mature ecosystem elements that support regional economic growth and further develop the partnerships nationally and internationally as appropriate;

(ii) Successful execution of the idea with a reasonable degree of success in the next year and demonstrated sustainability;

(iii) Qualified personnel: Demonstrated project management expertise; The education, experience, and accomplishments of key personnel; Adequacy of the Individual/Entity to carry out the proposed work and achieve success; Previous performance; Quality of any partnerships and extent of partnership commitments; and

(iv) Appropriateness, quality, and availability of any facilities, materials and resources to be used in implementing the Proposed Solution; and

(3) Cost Realism (Weighted Importance 2) (20 possible points)

(i) Adequate financial resources to ensure robust institutional capacity;

(ii) Strong potential to become self-sustaining, even without significant future Federal funding;

(iii) Extent to which prize funding will support implementation of the idea;

(iv) Access to venture capital, angel financing or other funding needed to implement/transition the solution.

(v) Business plan presents accurate, well-founded, and reasonable estimates costs to kick-start the idea; and

(vi) A long-term, broad, and deep commitment to implement/commercialize the solution with buy-in from stakeholders.

Additional Information: Intellectual Property—

(1) A Solver retains all ownership in intellectual property rights, if any, in the ideas, concepts, inventions, data, and other materials submitted in the prize competition. By entering the prize competition, each Solver agrees to grant to the United States Government, a Limited Purpose Research and Development License that is royalty free and non-exclusive for a period of four years from the date of submission. The Limited Purpose Research and Development License authorizes the United States Government to conduct research and development, or authorize others to do so on behalf of the United States Government. The Limited Purpose License does not include rights to commercialize the intellectual property in the Proposed Solution.

(2) Each Solver warrants that he or she is the sole author and owner of any copyrightable works that the Submission comprises, that the works are wholly original with the Solver (or is an improved version of an existing work that the Solver has sufficient rights to use and improve), and that the Submission does not infringe any copyright or any other rights of any third party of which Solver is aware.

Privacy: Personal information provided by entrants (Solvers) on the nomination form through the prize competition Web site will be used to contact selected finalists. Information is not collected for commercial marketing. Winners are permitted to cite that they won this competition. The names, cities, and states of selected winner or entity will be made available in promotional materials and at recognition events.

Judges and their Organization:

(1) Justine Spencer, U.S. Department of Homeland Security

(2) Michelle Colby, U.S. Department of Homeland Security

(3) Julie Brewer, U.S. Department of Homeland Security

(4) Martha Vanier, U.S. Department of Homeland Security

(5) Matt Coats, U.S. Department of Homeland Security

(6) Dr. Fernando Torres-Velez, U.S. Department of Agriculture

(7) Dr. Luis Rodriguez, U.S. Department of Agriculture

Authority: 15 U.S.C. 3719.

Dated: September 18, 2015.
Reginald Brothers,
Under Secretary, DHS Science and Technology Directorate.

[FR Doc. 2015-24586 Filed 9-25-15; 8:45 am]

BILLING CODE 9110-9F-P